DEPARTMENT OF TRANSPORTATION

Federal Aviation Administration

14 CFR Part 95

[Docket No. 31237; Amdt. No. 544]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, February 28, 2019.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg., 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on January 23, 2019.
Rick Domingo,
Executive Director, Flight Standards Service.

Adoption of the Amendment

Accordingly, pursuant to the authority delegated to me by the Administrator, part 95 of the Federal Aviation Regulations (14 CFR part 95) is amended as follows effective at 0901 UTC, June 03, 2010.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 544 effective date February 28, 2019]
FROM | TO | MEA
§ 95.6001 Victor Routes—U.S.
§ 95.6007 VOR Federal Airway V7 Is Amended To Read in Part
BOILER, IN VORTAC | CHICAGO HEIGHTS, IL VORTAC | 2800
PAPPI, IL FIX | *TALOR, WI FIX | **4000
*5300—MCA TALOR, WI FIX, N BND
**1800—MOCA
§ 95.6020 VOR Federal Airway V20 Is Amended To Read in Part
COLUMBUS, GA VORTAC | GRANT, GA FIX | *3000
*2400—MOCA
GRANT, GA FIX | *SMARR, GA FIX | **4000
*4500—MCA SMARR, GA FIX, NE BND
**2500—MOCA
**2600—GNSS MEA
SMARR, GA FIX | *SINCA, GA FIX | **4500
*4500—MCA SINCA, GA FIX, SW BND
**2500—MOCA
**2500—GNSS MEA
SINCA, GA FIX | ATHENS, GA VOR/DME | *3000
*2200—MOCA
§ 95.6035 VOR Federal Airway V35 Is Amended To Read in Part
SINCA, GA FIX | ATHENS, GA VOR/DME | *3000
*2200—MOCA
§ 95.6051 VOR Federal Airway V51 Is Amended To Read in Part
SHELBYVILLE, IN VOR/DME | *OCKEL, IN FIX | **5000
*4700—MCA OCKEL, IN FIX, SE BND
**2900—MOCA
OCKEL, IN FIX | BOILER, IN VORTAC | 2600
BOILER, IN VORTAC | CHICAGO HEIGHTS, IL VORTAC | 2800
§ 95.6066 VOR Federal Airway V66 Is Amended To Read in Part
CANER, GA FIX | GRANT, GA FIX | *3000
*2400—MOCA
GRANT, GA FIX | *SMARR, GA FIX | **4000
*4500—MCA SMARR, GA FIX, NE BND
**2500—MOCA
**2600—GNSS MEA
SMARR, GA FIX | *SINCA, GA FIX | **4500
*4500—MCA SINCA, GA FIX, SW BND
**2500—MOCA
**2500—GNSS MEA
SINCA, GA FIX | ATHENS, GA VOR/DME | *3000
*2200—MOCA
§ 95.6070 VOR Federal Airway V70 Is Amended To Read in Part
CHAFF, AL FIX | *RUTEL, AL FIX | **2500
*4500—MCA RUTEL, AL FIX, NE BND
**1800—MOCA
RUTEL, AL FIX | *CRENS, AL FIX | **4500
*4500—MCA CRENS, AL FIX, SW BND
**1800—MOCA
§ 95.6085 VOR Federal Airway V85 Is Amended To Read in Part
FALCON, CO VORTAC | HYGEN, CO FIX
| SE BND | 9400
| NW BND | 16000
HYGEN, CO FIX | LARAMIE, WY VOR/DME | 16000
§ 95.6097 VOR Federal Airway V97 Is Amended To Read in Part
CINCINNATI, KY VORTAC | SHELBYVILLE, IN VOR/DME | 2800
SHELBYVILLE, IN VOR/DME | *OCKEL, IN FIX | **5000
*4700—MCA OCKEL, IN FIX, SE BND
**2900—MOCA
OCKEL, IN FIX | BOILER, IN VORTAC | 2600
BOILER, IN VORTAC | CHICAGO HEIGHTS, IL VORTAC | 2800
§ 95.6155 VOR Federal Airway V155 Is Amended To Read in Part
COLUMBUS, GA VORTAC | GRANT, GA FIX | *3000
*2400—MOCA
GRANT, GA FIX | *SMARR, GA FIX | **4000
*4500—MCA SMARR, GA FIX, NE BND
**2500—MOCA
**2600—GNSS MEA
SMARR, GA FIX | *SINCA, GA FIX | **4500
*4500—MCA SINCA, GA FIX, SW BND
**2500—MOCA
**2500—GNSS MEA
§ 95.6164 VOR Federal Airway V164 Is Amended To Read in Part
BUFFALO, NY VOR/DME | *BENEE, NY FIX | **11000
*11000—MCA BENEE, NY FIX, N BND
**4400—MOCA
**5000—GNSS MEA
BENEE, NY FIX | WELLSVILLE, NY VORTAC | *6000
*4500—MOCA
*5000—GNSS MEA
§ 95.6167 VOR Federal Airway V167 Is Amended To Read in Part
PROVIDENCE, RI VOR/DME | ZUNUX, MA FIX | *2500
*1800—MOCA
ZUNUX, MA FIX | PEAKE, MA FIX | *3000
*1800—MOCA
§ 95.6170 VOR Federal Airway V170 is Amended to Delete
WORTHINGTON, MN VOR/DME | FAIRMONT, MN VOR/DME | 3300
FAIRMONT, MN VOR/DME | ROCHESTER, MN VOR/DME | 3000
§ 95.6191 VOR Federal Airway V191 Is Amended To Read in Part
NEWTT, IL FIX | *BOJAK, IL FIX | **5000
*5000—MRA
**2200—MOCA
§ 95.6219 VOR Federal Airway V219 is Amended to Delete
SIOUX CITY, IA VORTAC | RITTA, IA WP
| NE BND | *9000
| SW BND | *4500
*3300—MOCA
RITTA, IA WP | MILSS, IA FIX | 9000
MILSS, IA FIX | FAIRMONT, MN VOR/DME | 8000
FAIRMONT, MN VOR/DME | MANKATO, MN VOR/DME | *3000
*2500—MOCA
§ 95.6220 VOR Federal Airway V220 Is Amended To Read in Part
KREMMLING, CO VOR/DME | NIWOT, CO FIX | *17000
*15900—MOCA
NIWOT, CO FIX | *GILL, CO VOR/DME
| NE BND | 7400
| SW BND | 17000
*14500—MCA GILL, CO VOR/DME, SW BND
§ 95.6263 VOR Federal Airway V263 Is Amended To Read in Part
HUGO, CO VOR/DME | KANDO, CO FIX | *10000
*8500—MOCA
*9000—GNSS MEA
KANDO, CO FIX | AKRON, CO VOR/DME
| NE BND | *8500
| SW BND | *10000
*7500—MOCA
§ 95.6361 VOR Federal Airway V361 Is Amended To Read in Part
KREMMLING, CO VOR/DME | BARGR, CO FIX | *16000
*15600—MOCA
BARGR, CO FIX | CHEYENNE, WY VORTAC
| NE BND | 9200
| SW BND | 16000
§ 95.6454 VOR Federal Airway V454 Is Amended To Read in Part
CHAFF, AL FIX | *RUTEL, AL FIX | **2500
*4500—MCA RUTEL, AL FIX, NE BND
**1800—MOCA
RUTEL, AL FIX | *CRENS, AL FIX | **4500
*4500—MCA CRENS, AL FIX, SW BND
**1800—MOCA
BANBI, AL FIX | COLUMBUS, GA VORTAC | 2400
COLUMBUS, GA VORTAC | GRANT, GA FIX | *3000
*2400—MOCA
GRANT, GA FIX | *SMARR, GA FIX | **4000
*4500—MCA SMARR, GA FIX, NE BND
**2500—MOCA
**2600—GNSS MEA
SMARR, GA FIX | *SINCA, GA FIX | **4500
*4500—MCA SINCA, GA FIX, SW BND
**2500—MOCA
**2500—GNSS MEA
SINCA, GA FIX | *MADDI, GA FIX | **3000
*4000—MCA MADDI, GA FIX, NE BND
**2200—MOCA
MADDI, GA FIX | *VESTO, GA FIX | **4000
*4000—MCA VESTO, GA FIX, SW BND
**2300—MOCA
GREENWOOD, SC VORTAC | LOCKS, SC FIX | 2400

Airway segment: From | Airway segment: To | Changeover points: Distance | Changeover points: From
§ 95.8003 VOR Federal Airway Changeover Point V97 Is Amended To Add Changeover Point
CINCINNATI, KY VORTAC | SHELBYVILLE, IN VOR/DME | 39 | CINCINNATI
Is Amended To Delete Changeover Point
SHELBYVILLE, IN VOR/DME | BOILER, IN VORTAC | 50 | SHELBYVILLE
V219 Is Amended To Delete Changeover Point
SIOUX CITY, IA VORTAC | FAIRMONT, MN VOR/DME | 74 | SIOUX CITY

[FR Doc. 2019-00759 Filed 1-31-19; 8:45 am]

BILLING CODE 4910-13-P